DEPARTMENT OF ENERGY

Federal Energy Regulatory Commission

[Project No. 2042-191]

Public Utility District No. 1 of Pend Oreille County, Washington; Notice of Application for Amendment of License, and Soliciting Comments, Motions To Intervene, and Protests

Take notice that the following application has been filed with the Commission and is available for public inspection:

a. Application Type: Request for Amendment of License.

b. Project No.: 2042-191.

c. Date Filed: June 10, 2019.

d. Applicant: Public Utility District No. 1 of Pend Oreille County, Washington.

e. Name of Project: Box Canyon Hydroelectric Project.

f. Location: The project is located on the Pend Oreille River in northeastern Washington and northwestern Idaho. The project occupies federal lands, including acreage within the Colville National Forest and the Kalispel Indian Reservation.

g. Filed Pursuant to: The application for amendment of license was filed pursuant to 18 CFR 385.602 and 4.201.

h. Applicant Contact: Tyler Whitney, General Counsel and Director of Regulatory & Government Affairs, Public Utility District No. 1 of Pend Oreille County, P.O. Box 190, 130 N Washington, Newport, Washington 99156, (509) 447-9331, twhitney@popud.org; Craig Gannett, Davis Wright Tremaine LLP, 1201 Third Ave., Suite 2200, Seattle, WA 98101, (206) 757-8048, craiggannett@dwt.com; and Walker Stanovsky, Davis Wright Tremaine LLP, 1201 Third Ave., Suite 2200, Seattle, WA 98101, (206) 757-8259, walkerstanovsky@dwt.com.

i. FERC Contact: Holly Frank, telephone: (202) 502-6833, and email address: holly.frank@ferc.gov.

j. Deadline for filing comments, motions to intervene, and protests is 30 days from the issuance date of this notice by the Commission.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2042-191.

k. Description of Request: On February 19, 2010, the Commission approved a license amendment to include revised conditions submitted by the Department of the Interior (Interior) and the U.S. Forest Service pursuant to section 4(e) of the Federal Power Act (FPA) and the fish passage measures prescribed by Interior pursuant to FPA section 18. Since then, the PUD has been implementing the terms of the amended license, with administrative changes to the sequence and schedule of fishway measures. To address new information collected and developed since 2010, the licensee entered into an amended settlement agreement. On June 10, 2019, Public Utility District No. 1 of Pend Oreille County, Washington (licensee) filed an application for amendment of the license, which included the amended settlement agreement, and Interior filed revised conditions and fishway prescriptions for the project.

The licensee requests that the Commission amend the license to include the revised conditions and prescriptions submitted by Interior and the provisions set forth in Appendices A and C to the settlement agreement, and to make conforming revisions to license articles 401 and 402 to reflect new schedules and other revisions set forth in the revised conditions and prescriptions. The revised conditions and prescriptions would modify the Trout Habitat Restoration Program, would delete language requiring construction of downstream fish passage at Box Canyon Dam and upstream and downstream fish passage at Calispell Creek Pumping Plant for the remainder of the license term, and would require the licensee to undertake a monitoring program to determine impacts to populations of bull trout, Westslope cutthroat trout, and mountain whitefish from downstream passage through the turbines and spillways at Box Canyon Dam, and to report the results of monitoring to the Secretary of Interior no less than every five years.

l. Locations of the Application: The settlement agreement and application, Interior's revised section 4(e) conditions and section 18 fishway prescriptions, are available for review on the Commission's website at http://www.ferc.gov/docs-filing/elibrary.asp. Enter the docket number P-2042 in the docket number field to access the documents. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above and at the Commission's Public Reference Room, located at 888 First Street NE, Room 2A, Washington, DC 20426, or by calling (202) 502-8371.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment application. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: July 9, 2019.
Nathaniel J. Davis, Sr.,
Deputy Secretary.

[FR Doc. 2019-14927 Filed 7-12-19; 8:45 am]

BILLING CODE 6717-01-P